DEPARTMENT OF THE INTERIOR

Bureau of Land Management

[CA-690-01-5101-01-B109; CACA-CACA-40467]

Notice of Extension of the Public Comment Period on the Supplement to the Draft Environmental Impact Report/Environmental Impact Statement for the Proposed Cadiz Groundwater Storage Dry-Year Supply Program

AGENCY: Bureau of Land Management, Interior.

SUMMARY: Notice is hereby given that the public comment period on the Supplement to the Draft Environmental Impact Report/Environmental Impact Statement for the Proposed Cadiz Groundwater Storage Dry-Year Supply Program has been extended to Monday, January 8, 2001. The original public comment was scheduled to close on Monday, December 4, 2000.

The Bureau of Land Management (BLM), Department of the Interior, the Federal lead agency, and Metropolitan Water District (MWD) of Southern California, the State lead agency, developed the supplement in response to public and agency concerns about groundwater management and potential air quality impacts associated with the project, proposed by Metropolitan in partnership with Cadiz, Inc. Cooperating agencies in developing the supplement were the National Park Service (NPS) and the U.S. Geological Survey (USGS).

The Supplement provides more information on the proposed project and includes a Groundwater Monitoring and Management Plan (Plan). The Plan would govern water storage and extraction operations, including the amount of indigenous groundwater that may be extracted over the 50-year life of the proposed project.

The project proposes to utilize the groundwater basins under a portion of the Cadiz and Fenner Valleys, about 60 miles southwest of Needles, Calif., to store water imported from Metropolitan's Colorado River Aqueduct during years with surplus water and extract the stored water and available indigenous groundwater for use by Metropolitan to serve its customers. Some of the necessary facilities involved would be located on Cadiz, Inc. private land, while a 35-mile-long pipeline and other facilities would be on public lands administered by BLM.

The supplement is available online at www.ca.blm.gov/needles/nepa01.html. Review copies are available at BLM offices in Needles (101 West Spikes Road) and Riverside (6221 Box Springs Blvd.), and Metropolitan's Los Angeles headquarters (700 North Alameda Street), as well as local public libraries.

Comments on the Supplement to the Draft Environmental Impact Report/Environmental Impact Statement for the Proposed Cadiz Groundwater Storage Dry-Year Supply Program should be addressed to the Bureau of Land Management, Attn: James Williams, 6221 Box Springs Blvd., Riverside, CA 92507 or Metropolitan Water District, Attn: Jack Safely, P.O. Box 54153, Los Angeles, CA 90054.

FOR FURTHER INFORMATION CONTACT: James Williams at (909) 697-5390 or Jack Safely at (213) 217-6981.

Dated: November 27, 2000.
Bruce Shaffer,
Associate District Manager.

[FR Doc. 00-30613 Filed 11-30-00; 8:45 am]

BILLING CODE 4310-40-P